THE NATIONAL FOUNDATION ON THE ARTS AND THE HUMANITIES

Meetings of Humanities Panel

AGENCY: The National Endowment for the Humanities.

ACTION: Notice of meetings.

SUMMARY: Pursuant to the provisions of the Federal Advisory Committee Act (Public Law 92-463, as amended), notice is hereby given that the following meetings of the Humanities Panel will be held at the Old Post Office, 1100 Pennsylvania Avenue, NW., Washington, DC 20506.

FOR FURTHER INFORMATION CONTACT: Laura S. Nelson, Advisory Committee Management Officer, National Endowment for the Humanities, Washington, DC 20506; telephone (202) 606-8322. Hearing-impaired individuals are advised that information on this matter may be obtained by contacting the Endowment's TDD terminal on (202) 606-8282.

SUPPLEMENTARY INFORMATION: The proposed meetings are for the purpose of panel review, discussion, evaluation and recommendation on applications for financial assistance under the National Foundation on the Arts and the Humanities Act of 1965, as amended, including discussion of information given in confidence to the agency by the grant applicants. Because the proposed meetings will consider information that is likely to disclose trade secrets and commercial or financial information obtained from a person and privileged or confidential and/or information of a personal nature the disclosure of which would constitute a clearly unwarranted invasion of personal privacy, pursuant to authority granted me by the Chairman's Delegation of Authority to Close Advisory Committee meetings, dated July 19, 1993, I have determined that these meetings will be closed to the public pursuant to subsections (c)(4), and (6) of section 552b of Title 5, United States Code.

1. Date: July 10, 2000.

Time: 8:30 a.m. to 6:00 p.m.

Room: 420.

Program: This meeting will review applications for History Museums, Historical Societies, and Historic Sites, submitted to the Office of Challenge Grants at the May 1, 2000 deadline.

2. Date: July 17, 2000.

Time: 8:30 a.m. to 5:00 p.m.

Room: 315.

Program: This meeting will review applications for Fellowships in Latin American History and Studies, submitted to the Division of Research Programs at the May 1, 2000 deadline.

3. Date: July 18, 2000.

Time: 8:30 a.m. to 5:00 p.m.

Room: 315.

Program: This meeting will review applications for Fellowships in History and Philosophy of Science, submitted to the Division of Research Programs at the May 1, 2000 deadline.

4. Date: July 18, 2000.

Time: 8:30 a.m. to 6:00 p.m.

Room: 420.

Program: This meeting will review applications for Museums, Cultural Centers, and other Humanities Organizations, submitted to the Office of Challenge Grants at the May 1, 2000 deadline.

5. Date: July 19, 2000.

Time: 8:30 a.m. to 6:00 p.m.

Room: 315.

Program: This meeting will review applications for Fellowships in Religious Studies, submitted to the Division of Research Programs at the May 1, 2000 deadline.

6. Date: July 19, 2000.

Time: 8:30 a.m. to 5:00 p.m.

Room: 415.

Program: This meeting will review applications for Fellowships in American and Latin American Literature and Linguistics, submitted to the Division of Research Programs at the May 1, 2000 deadline.

7. Date: July 20, 2000.

Time: 8:30 a.m. to 5:00 p.m.

Room: 315.

Program: This meeting will review applications for Fellowships in Philosophy, submitted to the Division of Research Programs at the May 1, 2000 deadline.

8. Date: July 21, 2000.

Time: 8:30 a.m. to 5:00 p.m.

Room: 315.

Program: This meeting will review applications for Fellowships in Music and Dance, submitted to the Division of Research Programs at the May 1, 2000 deadline.

9. Date: July 21, 2000.

Time: 8:30 a.m. to 5:00 p.m.

Room: 415.

Program: This meeting will review applications for Fellowships in European History, submitted to the Division of Research Programs at the May 1, 2000 deadline.

10. Date: July 21, 2000.

Time: 8:30 a.m. to 6:00 p.m.

Room: 420.

Program: This meeting will review applications for Research Associations, Collections, and Programs, submitted to the Office of Challenge Grants at the May 1, 2000 deadline.

11. Date: July 24, 2000.

Time: 8:30 a.m. to 5:00 p.m.

Room: 315.

Program: This meeting will review applications for Fellowships in American History, submitted to the Division of Research Programs at the May 1, 2000 deadline.

12. Date: July 24, 2000.

Time: 8:30 a.m. to 5:00 p.m.

Room: 415.

Program: This meeting will review applications for Fellowships in American History, submitted to the Division of Research Programs at the May 1, 2000 deadline.

13. Date: July 26, 2000.

Time: 8:30 a.m. to 5:00 p.m.

Room: 315.

Program: This meeting will review applications for Fellowships in East Asian Studies, submitted to the Division of Research Programs at the May 1, 2000 deadline.

14. Date: July 27, 2000.

Time: 8:30 a.m. to 5:00 p.m.

Room: 315.

Program: This meeting will review applications for Fellowships in American History, submitted to the Division of Research Programs at the May 1, 2000 deadline.

15. Date: July 28, 2000.

Time: 8:30 a.m. to 5:00 p.m.

Room: 415.

Program: This meeting will review applications for Fellowships in British Literature, submitted to the Division of Research Programs at the May 1, 2000 deadline.

16. Date: July 28, 2000.

Time: 8:30 a.m. to 5:00 p.m.

Room: 315.

Program: This meeting will review applications for Fellowships in British Literature, submitted to the Division of Research Programs at the May 1, 2000 deadline.

17. Date: July 31, 2000.

Time: 8:30 a.m. to 5:00 p.m.

Room: 315.

Program: This meeting will review applications for Fellowships in Anthropology and Archaeology I, submitted to the Division of Research Programs at the May 1, 2000 deadline.

Laura S. Nelson,
Advisory Committee Management Officer.

[FR Doc. 00-16692 Filed 6-30-00; 8:45 am]

BILLING CODE 7536-01-M